DEPARTMENT OF COMMERCE

International Trade Administration

[C-475-830]

Stainless Steel Bar From Italy: Postponement of Time Limit for Preliminary Determination of Countervailing Duty Investigation

AGENCY: Import Administration, International Trade Administration, Department of Commerce.

ACTION: Notice of postponement of time limit.

SUMMARY: The Department of Commerce is extending the time limit for the preliminary determination of the countervailing duty investigation of stainless steel bar from Italy. The period of investigation is January 1, 2000 through December 31, 2000. This extension is made pursuant to section 703(c)(2) of the Tariff Act of 1930, as amended by the Uruguay Round Agreements Act.

EFFECTIVE DATE: March 8, 2001.

FOR FURTHER INFORMATION CONTACT: Suresh Maniam or Greg Campbell, Office of CVD/AD Enforcement Group I, Import Administration, International Trade Administration, U.S. Department of Commerce, 14th Street and Constitution Avenue, NW., Washington, DC 20230, telephone (202) 482-0176 or (202) 482-2239, respectively.

Postponement of Preliminary Determination

The Applicable Statute and Regulations

Unless otherwise indicated, all citations to the statute are references to the provisions effective January 1, 1995, the effective date of the amendments made to the Tariff Act of 1930 (“the Act”) by the Uruguay Round Agreements Act. In addition, unless otherwise indicated, all citations to the Department of Commerce's (“Department”) regulations are references to the provisions codified at 19 CFR Part 351 (2000).

Postponement

On January 17, 2001, the Department initiated the countervailing duty investigation of stainless steel bar from Italy. See Notice of Initiation of Countervailing Duty Investigation: Stainless Steel Bar from Italy, 66 FR 7739 (January 25, 2001). Currently, the preliminary determination must be issued by March 23, 2001.

On February 23, 2001, the petitioners made a timely request pursuant to section 703(c)(1)(A) of the Act and 19 CFR 351.205(e) of the Department's regulations for a postponement of the preliminary determination. The petitioners requested a postponement until May 29, 2001 in order to allow time for the petitioners to submit comments regarding the respondents' questionnaire responses and to allow time for the Department to analyze these responses.

The petitioners' request for the postponement was timely, and the Department finds no compelling reason to deny the request. Therefore, pursuant to 703(c) of the Act and 19 CFR 351.205(b)(2), the Department is postponing the preliminary determination until no later than May 29, 2001.

We are issuing and publishing this notice in accordance with sections 703(c)(2) and 777(i)(1) of the Act.

Dated: March 2, 2001.
Richard W. Moreland,
Deputy Assistant Secretary for AD/CVD Enforcement I.

[FR Doc. 01-5772 Filed 3-7-01; 8:45 am]

BILLING CODE 3510-DS-P